DEPARTMENT OF STATE

[Public Notice: 11522]

Imposition of Additional Sanctions on Russia Under the Chemical and Biological Weapons Control and Warfare Elimination Act of 1991

ACTION: Notice.

SUMMARY: On March 2, 2021, the Secretary of State, acting under authority delegated pursuant to Executive Order 12851, determined pursuant to section 306(a) of the Chemical and Biological Weapons Control and Warfare Elimination Act of 1991 (CBW Act), 22 U.S.C. 5604(a), that the Government of the Russian Federation used chemical or biological weapons in violation of international law or lethal chemical or biological weapons against its own nationals. Notice of this determination was published on March 18, 2021 in the Federal Register, under Public Notice 11374, which resulted in sanctions against Russia. Section 307(b) of the CBW Act, requires a decision within three months of March 2, 2021 regarding whether Russia has met certain conditions described in the law. Additional sanctions on Russia are required if these conditions are not met. Russia has not met the CBW Act's conditions and the Deputy Secretary of State has decided to impose additional sanctions on Russia on August 20, 2021.

DATES: September 7, 2021.

FOR FURTHER INFORMATION CONTACT: Pamela K. Durham, Office of Missile, Biological, and Chemical Nonproliferation, Bureau of International Security and Nonproliferation, Department of State, Telephone (202) 647-4930.

SUPPLEMENTARY INFORMATION: Pursuant to Section 307(b) of the Chemical and Biological Weapons Control and Warfare Elimination Act of 1991, as amended (22 U.S.C. 5605(b)), on August 20, 2021, the Deputy Secretary of State decided to impose additional sanctions on Russia. As a result, the following additional sanctions are hereby imposed:

1. Multilateral Development Bank Assistance: The United States Government shall oppose, in accordance with Section 701 of the International Financial Institutions Act (22 U.S.C. 262d), the extension of any loan or financial or technical assistance to Russia by international financial institutions.

2. Bank Loans: The United States Government shall prohibit any United States bank from making any loan or providing any credit to the Government of the Russian Federation, except for loans or credits for the purpose of purchasing food or other agricultural commodities or products.

The Deputy Secretary of State has determined that it is essential to the national security interests of the United States to waive the application of this sanction in all respects, except that the authority of Executive Order 13883 shall be used by the Department of the Treasury to prohibit United States banks from (1) participating in the primary market for non-ruble denominated bonds issued by the Russian sovereign issued after the enactment of these sanctions; and (2) providing non-ruble denominated loans to the Russian sovereign after the enactment of these sanctions, in both cases as further described in a Federal Register Notice issued by the Department of the Treasury and implemented through the Directive and guidance published on the Office of Foreign Assets Control's website (http://www.treasury.gov/ofac).

3. Further Export Restrictions: The authorities of section 6 of the Export Administration Act of 1979 shall be used to prohibit exports to Russia of all other goods and technology (excluding food and other agricultural commodities and products).

The Deputy Secretary of State has determined that it is essential to the national security interests of the United States to waive the application of this sanction with respect to the following:

Reasons for Control: Exports and reexports of goods or technology controlled for reason CB (Chemical and Biological Weapons), MT (Missile Technology), and NP (Nuclear Proliferation), pursuant to new licenses, provided that such licenses will be issued on a case-by-case basis, subject to a “presumption of denial” policy. Exports and reexports of goods or technology controlled for AT (Anti-Terrorism), CC (Crime Control), FC (Firearms Convention), and RS (Regional Stability), pursuant to new licenses, provided that such licenses will be issued on a case-by-case basis, consistent with export licensing policy for Russia prior to enactment of these sanctions.

License Exceptions: Exports and reexports of goods or technology eligible under License Exceptions GOV, ENC, BAG, TMP, and AVS.

Safety of Flight: Exports and reexports of goods or technology pursuant to new licenses necessary for the safety of flight of civil fixed-wing passenger aviation, provided that such licenses shall be issued on a case-by-case basis, consistent with export licensing policy for Russia prior to enactment of these sanctions.

Deemed Exports/Reexports: Exports and reexports of goods or technology pursuant to new licenses for deemed exports and reexports to Russian nationals, provided that such licenses shall be issued on a case-by-case basis, consistent with export licensing policy for Russia prior to enactment of these sanctions.

Wholly-Owned U.S. and Other Foreign Subsidiaries: Exports and reexports of goods or technology pursuant to new licenses for exports and reexports to wholly-owned U.S. and other foreign subsidiaries in Russia, provided that such licenses shall be issued on a case-by-case basis, consistent with export licensing policy for Russia prior to enactment of these sanctions.

Government Space Cooperation: Exports and reexports of goods or technology pursuant to new licenses in support of government space cooperation, provided that such licenses shall be issued on a case-by-case basis, consistent with export licensing policy for Russia prior to enactment of these sanctions.

Commercial Space Launches: Exports and reexports of goods or technology pursuant to new licenses in support of commercial space launches, provided that such licenses will be reviewed subject to a “presumption of denial” policy.

Commercial End-Users: Exports and reexports of goods or technology pursuant to new licenses for commercial end-users for civil end-uses in Russia, provided that such licenses will be reviewed subject to a “presumption of denial” policy.

SOEs/SFEs: Exports and reexports of goods or technology pursuant to new licenses for Russian state-owned or state-funded enterprises will be reviewed subject to a “presumption of denial” policy.

4. Import Restrictions: New or pending permit applications submitted to the Department of Justice, Bureau of Alcohol, Tobacco, Firearms and Explosives (ATF) for the permanent importation into the United States of firearms or ammunition, as defined on the U.S. Munitions Import List (22 CFR 447.21, Categories I and III), that are manufactured or located in the Russian Federation shall be denied in accordance with section 38 of the Arms Export Control Act (22 U.S.C. 2778) and Executive Order 13637. Consistent with authority delegated under Executive Order 12851, the Department of the Treasury has concurred with the imposition of this sanction and its implementation by ATF.

These measures shall be implemented by the responsible departments and agencies of the United States Government and will remain in place for at least one year and until further notice.

Choo S. Kang,
Acting Assistant Secretary, Bureau of International Security and Nonproliferation, Department of State.

[FR Doc. 2021-19117 Filed 9-3-21; 8:45 am]

BILLING CODE 4710-27-P